DEPARTMENT OF THE INTERIOR

Bureau of Land Management

[BLM_CO_FRN_MO4500168794; LLCO80200-L10200000.PH0000-212]

Notice of Joint and Individual Colorado Resource Advisory Council Meetings

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Northwest Resource Advisory Council (RAC), Southwest RAC, and Rocky Mountain RAC will meet as follows.

DATES: The Northwest, Southwest, and Rocky Mountain RACs will hold a joint meeting on March 29, 2023, from 8:30 a.m. to 4:30 p.m. The Northwest and Southwest RACs will meet jointly on March 30, 2023, from 9 a.m. to noon. The Rocky Mountain RAC will meet on March 30, 2023, from 9 a.m. to 2 p.m. All meetings are open to the public and virtual participation options will be available.

ADDRESSES: All meetings will be held in Glenwood Springs, Colorado. The March 29 meeting will be held at Morgridge Commons, 815 Cooper Avenue. The March 30 meetings will be held at Colorado Mountain College's Glenwood Center, 1402 Blake Ave.

FOR FURTHER INFORMATION CONTACT: Northwest RAC—Greg Larson; BLM Upper Colorado River District Office, 2815 H Road Grand Junction, CO 81056; glarson@blm.gov, (970) 244-3015. Southwest RAC—Lisa Dawson; BLM Southwest District Office, 2465 S Townsend Ave., Montrose, CO 81401; edawson@blm.gov, (970) 240-5430. Rocky Mountain RAC—Levi Spellman, Public Affairs Specialist; BLM Rocky Mountain District Office, 3028 E Main St., Cañon City, CO 71212; lspellman@blm.gov, (719) 269-8553.

Individuals in the United States who are deaf, deafblind, hard of hearing, or have a speech disability may dial 711 (TTY, TDD, or TeleBraille) to access telecommunications relay services for contacting the BLM. Individuals outside the United States should use the relay services offered within their country to make international calls to the point-of-contact in the United States. Individuals who need special assistance, such as sign language interpretation and other reasonable accommodations, should contact the BLM (see FOR FURTHER INFORMATION CONTACT).

SUPPLEMENTARY INFORMATION: The Colorado RACs advise the Secretary of the Interior, through the BLM, on a variety of public land issues in Colorado. Planned agenda items for the March 29 joint RAC meeting include presentations on partnership opportunities and Federal Lands Recreation Enhancement Act funding. Topics of discussion during the March 30 meetings may include recreation, land use planning, energy and minerals management, recreation, sage-grouse habitat management, and other issues as appropriate. Final agendas will be available online 2 weeks prior to the meetings at https://www.blm.gov/get-involved/resource-advisory-council/near-you/colorado.

A public comment period will be available at each meeting. Depending on the number of people who wish to comment during the public comment period, individual comments may be limited. Written comments may be submitted in advance of the individual RAC meetings via email to the individuals listed in the FOR FURTHER INFORMATION CONTACT section of this notice. Please include “RAC Comment” in your submission.

Before including your address, phone number, email address, or other personal identifying information in your comment, you should be aware that your entire comment, including your personal identifying information, may be made publicly available at any time. While you can ask us in your comment to withhold your personal identifying information from public review, we cannot guarantee that we will be able to do so.

Detailed minutes for the RAC meetings will be made available 90 days following the meetings online at https://www.blm.gov/get-involved/resource-advisory-council/near-you/colorado.

(Authority: 43 CFR 1784.4-2)

Douglas Vilsack,
BLM Colorado State Director.

[FR Doc. 2023-02893 Filed 2-9-23; 8:45 am]

BILLING CODE 4331-16-P